DEPARTMENT OF EDUCATION

Privacy Act of 1974; System of Records—Financial Management System (FMS)

AGENCY: Federal Student Aid, Department of Education.

ACTION: Notice of a New System of Records.

SUMMARY: In accordance with the Privacy Act of 1974, as amended (Privacy Act), (5 U.S.C. 552a), the Department of Education (Department) publishes this notice of a new system of records entitled the “Financial Management System (FMS)” (18-11-17).

FMS interfaces with other Federal Student Aid systems and consolidates and centralizes all Federal Student Aid accounting and financial data into one system. FMS is a conduit (pass-through system) containing personally identifiable information that is obtained from other Federal Student Aid systems. FMS has been in operation since October 2001. However, because FMS maintains Privacy Act records and discloses these records to the United States Department of the Treasury and to loan holders, a management decision was made to treat FMS as an official system of records under the Privacy Act.

DATES: The Department seeks comment on the new system of records described in this notice, in accordance with the requirements of the Privacy Act. We must receive your comments on or before February 1, 2008.

The Department filed a report describing the new system of records covered by this notice with the Chair of the Senate Committee on Homeland Security and Governmental Affairs, the Chair of the House Committee on Oversight and Government Reform, and the Administrator of the Office of Information and Regulatory Affairs, Office of Management and Budget (OMB) on December 27, 2007. This new system of records will become effective at the later date of—(1) The expiration of the 40-day period for OMB review on February 5, 2008, or (2) February 1, 2008 unless the system of records needs to be changed as a result of public comment or OMB review.

ADDRESSES: Address all comments about this new system of records to John Hurt, Director, Financial Management Group, Office of the Chief Financial Officer (OCFO), Federal Student Aid, U.S. Department of Education, 830 First Street, NE., Union Center Plaza (UCP), room 54C3, Washington, DC, 20202-5345. If you prefer to send your comments through the Internet, use the following address: comments@ed.gov.

You must include the term “Financial Management System of Records” in the subject line of your electronic comment.

During and after the comment period, you may inspect all public comments about this notice at the U.S. Department of Education in room 54C3, UCP, 5th Floor, 830 First Street, NE., Washington, DC, between the hours of 8 a.m. and 4:30 p.m., eastern time, Monday through Friday of each week, except Federal holidays.

Assistance to Individuals With Disabilities in Reviewing the Rulemaking Record

On request, we will supply an appropriate aid, such as a reader or print magnifier, to an individual with a disability who needs assistance to review the comments or other documents in the public rulemaking record for this notice.

If you want to schedule an appointment for this type of aid, please contact the person listed under FOR FURTHER INFORMATION CONTACT.

FOR FURTHER INFORMATION CONTACT: John Hurt. Telephone number: 202-377-3453. If you use a telecommunications device for the deaf (TDD), you may call the Federal Relay Service (FRS) at 1-800-877-8339.

Individuals with disabilities may obtain this document in an alternative format (e.g., Braille, large print, audiotape, or computer diskette) on request to the contact person listed in this section.

SUPPLEMENTARY INFORMATION:

Introduction

The Privacy Act (5 U.S.C. 552a(e)(4)) requires the Department to publish in the Federal Register this notice of a new system of records. The Department's regulations implementing the Privacy Act are contained in the Code of Federal Regulations (CFR) in 34 CFR part 5b.

The Privacy Act applies to a record about an individual that is maintained in a system of records from which information is retrieved by a unique identifier associated with each individual, such as a name or social security number. The information about each individual is called a “record,” and the system, whether manual or computer-based, is called a “system of records.” The Privacy Act requires each agency to publish a system of records notice in the Federal Register and to submit, whenever the agency publishes a new system of records or makes a significant change to an established system of records, a report to the Administrator of the Office of Information and Regulatory Affairs, OMB. Each agency is also required to send copies of the report to the Chair of the Committee on Oversight and Government Reform of the House of Representatives, and to the Chair of the Committee on Homeland Security and Governmental Affairs of the Senate.

Electronic Access to This Document

You can view this document, as well as all other documents of this Department published in the Federal Register, in text or Adobe Portable Document Format (PDF) on the Internet, at the following site: http://www.ed.gov/news/fedregister.

To use PDF you must have Adobe Acrobat Reader, which is available free at this site. If you have questions about using PDF, call the U.S. Government Printing Office (GPO), toll free, at 1-888-293-6498; or in the Washington, DC, area at 202-512-1530.

Note: The official version of this document is the document published in the Federal Register. Free Internet access to the official edition of the Federal Register and the Code of Federal Regulations is available on GPO Access at: http://www.gpoaccess.gov/nara/index.html.

Dated: December 27, 2007.
Lawrence A. Warder,
Acting Chief Operating Officer, Federal Student Aid.

For the reasons discussed in the preamble, the Acting Chief Operating Officer, Federal Student Aid, U.S. Department of Education (Department) publishes a notice of a new system of records to read as follows:

18-11-17

SYSTEM NAME:

Financial Management System (FMS).

SECURITY CLASSIFICATION:

None.

SYSTEM LOCATION(S):

(1) Financial Management Group, Office of the Chief Financial Officer (OCFO), Federal Student Aid, U.S. Department of Education, 830 First Street, NE., Union Center Plaza (UCP), room 54C3, Washington, DC 20202-5345.

(2) Perot Systems Corporation, 2300 W. Plano Parkway, Plano, TX 75075-8427.

(3) ACS Education Services, Inc., 501 Bleecker Street, Utica, NY 13501-2401.

(4) ACS Education Solutions, LLC, 12410 Milestone Center, Germantown, MD 20876-7101.

CATEGORIES OF INDIVIDUALS COVERED BY THE SYSTEM:

This system contains records on those individual borrowers who are eligible for refunds of loan overpayments received by the Department's Office of Federal Student Aid under Title IV of the Higher Education Act of 1965, as amended.

CATEGORIES OF RECORDS IN THE SYSTEM:

The FMS system contains personally identifiable information about individual borrowers who are entitled to a refund of an overpayment or discharge, or both. The system includes a borrower's social security number, name and address, amount of overpayment to be refunded, and name of the loan holder.

AUTHORITY FOR MAINTENANCE OF THE SYSTEM:

Title IV of the Higher Education Act of 1965, as amended (HEA), (20 U.S.C. 1070 et seq.).

PURPOSE(S):

Information in this system is maintained for the purpose of processing refunds to borrowers or loan holders (lenders and guaranty agencies) for overpayments and discharges of Title IV Federal student aid. When a loan overpayment or loan discharge occurs and FMS receives loan refund information, FMS sends refund transaction data (the borrower's name and other identifiers) to the Department of Education's Central Automated Processing System (EDCAPS) for posting to the general ledger and subsequent payment by the Department of the Treasury to the borrower or loan holder (lenders and guaranty agencies).

ROUTINE USES OF RECORDS MAINTAINED IN THE SYSTEM, INCLUDING CATEGORIES OF USERS AND THE PURPOSE OF SUCH USES:

The Department may disclose information contained in a record in this system of records without the consent of the individual if the disclosure is compatible with the purposes for which the record was collected.

These disclosures may be made on a case-by-case basis, or, if the Department has complied with the computer matching requirements of the Computer Matching and Privacy Protection Act of 1988, as amended, under a computer matching agreement.

(1) Program Disclosure. In order to refund loan overpayments back to the borrower or loan holder and to answer questions that may arise about the refund payments, the Department may disclose information from this system to the Department of the Treasury via Treasury's Electronic Certification System (eCS) or to the loan holder.

(2) Contract Disclosure. If the Department contracts with an entity for the purposes of performing any function that requires disclosure of records in this system to employees of the contractor, the Department may disclose the records to those employees. Before entering into such a contract, the Department shall require the contractor to maintain Privacy Act safeguards as required under 5 U.S.C. 552a(m) with respect to the records in the system.

(3) Research Disclosure. The Department may disclose records to a researcher if the Director, Financial Management Group, Office of Chief Financial Officer, Federal Student Aid, determines that the individual or organization to which the disclosure would be made is qualified to carry out specific research related to functions or purposes of this system of records. The Director may disclose records from this system of records to that researcher solely for the purpose of carrying out research related to the functions or purposes of this system of records. The researcher shall be required to maintain Privacy Act safeguards with respect to the disclosed records.

(4) Disclosure for Use by Other Law Enforcement Agencies. The Department may disclose information to any Federal, State, local, or foreign agency or other public authority responsible for enforcing, investigating, or prosecuting violations of administrative, civil, or criminal law or regulation if that information is relevant to any enforcement, regulatory, investigative, or prosecutorial responsibility within the receiving entity's jurisdiction.

(5) Enforcement Disclosure. In the event that information in this system of records indicates, either on its face or in connection with other information, a violation or potential violation of any applicable statute, Executive order, regulation, or rule of a competent authority, the Department may disclose the relevant records to the appropriate agency, whether foreign, Federal, State, Tribal, or local, charged with the responsibility of investigating or prosecuting that violation or charged with enforcing or implementing the statute, order, regulation, or rule, issued pursuant thereto.

(6) Litigation and Alternative Dispute Resolution (ADR) Disclosure.

(a) Introduction. In the event that one of the following parties listed below is involved in litigation or ADR, or has an interest in litigation or ADR, the Department may disclose certain records to the parties described in paragraphs (b), (c), and (d) of this routine use under the conditions specified in those paragraphs:

(i) The Department or any of its components.

(ii) Any Department employee in his or her official capacity.

(iii) Any Department employee in his or her individual capacity if the U.S. Department of Justice (DOJ) has been requested to or has agreed to provide or arrange for representation for the employee.

(iv) Any Department employee in his or her individual capacity where the Department has agreed to represent the employee.

(v) The United States where the Department determines that the litigation is likely to affect the Department or any of its components.

(b) Disclosure to the DOJ. If the Department determines that disclosure of certain records to the DOJ is relevant and necessary to litigation or ADR, the Department may disclose those records as a routine use to the DOJ.

(c) Adjudicative Disclosure. If the Department determines that it is relevant and necessary to the litigation or ADR to disclose certain records to an adjudicative body before which the Department is authorized to appear, to an individual, or to an entity designated by the Department or otherwise empowered to resolve or mediate disputes, the Department may disclose those records as a routine use to the adjudicative body, individual, or entity.

(d) Disclosure to Parties, Counsel, Representatives, or Witnesses. If the Department determines that disclosure of certain records to a party, counsel, representative, or witness is relevant and necessary to litigation or ADR, the Department may disclose those records as a routine use to a party, counsel, representative, or witness.

(7) Freedom of Information Act (FOIA) or Privacy Act Advice Disclosure. The Department may disclose records to the DOJ or the OMB if the Department concludes that disclosure is desirable or necessary in determining whether particular records are required to be disclosed under the FOIA or Privacy Act.

(8) Disclosure to the DOJ. The Department may disclose records to the DOJ to the extent necessary to obtain DOJ advice on any matter relevant to an audit, inspection, or other inquiry related to the programs covered by this system.

(9) Congressional Member Disclosure. The Department may disclose the records of an individual to a member of Congress or the member's staff in response to an inquiry from the member made at the written request of that individual. The member's right to the information is no greater than the right of the individual who requested the inquiry.

(10) Disclosure in the Course of Responding to Breach of Data. The Department may disclose records from this system of records to appropriate agencies, entities, and persons when: (a) The Department suspects or has confirmed that the security or confidentiality of information in the FMS has been compromised; (b) the Department has determined that as a result of the suspected or confirmed compromise, there is a risk of harm to economic or property interests, identity theft or fraud, or harm to the security or integrity of the FMS or other systems or programs (whether maintained by the Department or another agency or entity) that rely upon the compromised information; and, (c) the disclosure made to such agencies, entities, and persons is reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records are maintained in hardcopy, microfilm, magnetic storage and optical storage media, such as tape, disk, etc.

RETRIEVABILITY:

Records in this system are retrievable by social security number or name of borrower.

SAFEGUARDS:

This system of records limits data access to Department and contract staff on a need-to-know basis and controls individual users' ability to access and alter records within the system. All users of this system of records are given a unique user identification and are required to establish a password that adheres to the Federal Student Aid Information Security and Privacy Policy requiring a complex password that must be changed every 60-90 days in accordance with Department information technology standards. Annually, all users of FMS must acknowledge the completion of FMS-specific security awareness training before they can obtain or renew their access to this system of records. An automated audit trail documents the identity of each person and device having access to FMS.

RETENTION AND DISPOSAL:

FMS' records retention and disposal schedule is in compliance with the Department's Records Retention and Disposition Schedule (RRDS) policy and the guidance specified in the National Archives and Records Administration (NARA) General Records Schedule (GRS) 7 entitled “Expenditure Accounting Records.”

SYSTEM MANAGER(S) AND ADDRESS:

(1) Financial Management System (FMS)—Director, Financial Management Group, OCFO, Federal Student Aid, U.S. Department of Education, 830 1st Street, NE., UCP, Washington, DC 20202-5345.

(2) Direct Loan Servicing System (DLSS)—Director, Servicing Group, Borrower Services, Federal Student Aid, U.S. Department of Education, 830 1st Street, NE., UCP, Washington, DC 20202-5345.

(3) Direct Loan Consolidation System (DLCS)—Director, Consolidation Group, Borrower Services, Federal Student Aid, U.S. Department of Education, 830 1st Street, NE., UCP, Washington, DC 20202-5345.

NOTIFICATION PROCEDURE:

If you wish to determine whether a record exists regarding you in the system of records, provide the system manager with your name, date of birth, and social security number. Your requests must meet the requirements of the regulations in 34 CFR 5b.5, including proof of identity.

RECORD ACCESS PROCEDURE:

If you wish to gain access to a record in this system of records, provide the system manager with your name, date of birth, and social security number. Your requests for access to a record must meet the requirements of the regulations in 34 CFR 5b.5, including proof of identity.

CONTESTING RECORD PROCEDURE:

If you wish to contest the content of a record regarding you in the system of records, contact the system manager. Your request to correct or amend a record must meet the requirements of the regulations in 34 CFR 5b.7, including proof of identity, specification of the particular record that you are seeking to have changed, and the written justification for making such a change.

RECORD SOURCE CATEGORIES:

Information in this system is obtained from other Department and contractor-managed systems, such as the Direct Loan Servicing, Direct Loan Consolidation System, Conditional Disability Discharge Tracking System, Campus Based Student Loan System, as well as manual and electronic processes internal to Federal Student Aid.

EXEMPTIONS CLAIMED FOR THE SYSTEM:

None.

[FR Doc. E7-25520 Filed 12-31-07; 8:45 am]

BILLING CODE 4000-01-P